INTERNATIONAL TRADE COMMISSION

[Investigation No. 337-TA-1209]

Certain Movable Barrier Operator Systems and Components Thereof; Notice of Institution

AGENCY: U.S. International Trade Commission.

ACTION: Notice.

SUMMARY: Notice is hereby given that a complaint was filed with the U.S. International Trade Commission on July 6, 2020, under section 337 of the Tariff Act of 1930, as amended, on behalf of Overhead Door Corporation of Lewisville, Texas and GMI Holdings Inc. of Mount Hope, Ohio. A supplement to the complaint was filed on July 22, 2020. The complaint alleges violations of section 337 based upon the importation into the United States, the sale for importation, and the sale within the United States after importation of certain movable barrier operator systems and components thereof by reason of infringement of U.S. Patent No. 8,970,345 (“the '345 Patent”); U.S. Patent No. 9,483,935 (”the '935 Patent”); U.S. Patent No. 7,173,516 (“the '516 Patent”); U.S. Patent No. 7,180,260 (“the '260 Patent”); U.S. Patent No. 7,956,718 (“the '718 Patent”); and U.S. Patent No. 8,410,895 (“the '895 Patent”). The complaint further alleges that an industry in the United States exists as required by the applicable Federal Statute. The complainants request that the Commission institute an investigation and, after the investigation, issue a limited exclusion order and a cease and desist order.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Katherine Hiner, Office of Docket Services, U.S. International Trade Commission, telephone (202) 205-1802.

SUPPLEMENTARY INFORMATION: The authority for institution of this investigation is contained in section 337 of the Tariff Act of 1930, as amended, 19 U.S.C. 1337, and in section 210.10 of the Commission's Rules of Practice and Procedure, 19 CFR 210.10 (2020).

SCOPE OF INVESTIGATION: Having considered the complaint, the U.S. International Trade Commission, on August 4, 2020, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 2, 16, and 17 of the '345 patent; claims 1, 4, 16, and 19 of the '935 patent; claims 10-12, 14-16, and 18 of the '516 patent; claims 1-3, 7, and 8 of the '260 patent; claims 18 and 24 of the '718 patent; and claim 17 of the '895 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “garage door systems and components thereof, remote controls, wireless transmitters, and software for operating the garage door systems”;

(3) For the purpose of the investigation so instituted, the following are hereby named as parties upon which this notice of investigation shall be served:

(a) The complainants are:

Overhead Door Corporation, 2501 South State Highway 121, Bus., Suite 200, Lewisville, TX 75067.

GMI Holdings Inc., One Door Drive, Mount Hope, OH 44660.

(b) The respondent is the following entity alleged to be in violation of section 337, and is the party upon which the complaint is to be served:

The Chamberlain Group, Inc., 300 Windsor Drive, Oak Brook, IL 60523.

(4) For the investigation so instituted, the Chief Administrative Law Judge, U.S. International Trade Commission, shall designate the presiding Administrative Law Judge.

The Office of Unfair Import Investigations will not participate as a party in this investigation.

Responses to the complaint and the notice of investigation must be submitted by the named respondent in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of the respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: August 4, 2020.
Lisa Barton,
Secretary to the Commission.

[FR Doc. 2020-17358 Filed 8-7-20; 8:45 am]

BILLING CODE 7020-02-P